RAILROAD RETIREMENT BOARD

20 CFR Part 375

RIN 3220-ZA01

Plan of Operation During a National Emergency; Delegations of Authority and Lines of Succession

AGENCY: Railroad Retirement Board.

ACTION: Final rule.

SUMMARY: The Railroad Retirement Board (RRB) amends its regulations to update delegations of authority to act in the event of a national emergency and remove references to obsolete and disestablished titles.

DATES: This rule is effective July 23, 2025.

FOR FURTHER INFORMATION CONTACT: Peter J. Orlowicz, Senior Counsel, Railroad Retirement Board, (312) 751-4922, peter.orlowicz@rrb.gov.

SUPPLEMENTARY INFORMATION: The RRB is amending its regulations governing the RRB's plan of operation during a national emergency, including delegations of authority and lines of succession. Because the plan of operation expressly delegates the full administrative power of the Board to a single Board Member or employee in the line of succession, the Board is updating the statutory citation to include specific reference to section 7(b)(3) of the Railroad Retirement Act (45 U.S.C. 231f(b)(3)) and section 12(m) of the Railroad Unemployment Insurance Act (45 U.S.C. 362(m)), which expressly permit the Board to delegate any of its powers (other than the power to prescribe rules and regulations) to a specific officer or employee of the Board.

As currently defined by 20 CFR 375.2, a “national emergency” occurs only after an attack on the United States or at a time specified by the authority of the President of the United States after such an attack, and by order of the Chair of the Board or his or her successor as set forth in part 375, or when it is no longer possible to communicate with the Chair or successor at his or her designated duty station. We are revising this definition to include all presidentially-declared national emergencies under any legal authority, but we are maintaining the requirement that the Chair of the Board or his or her successor issue an order or be unable to communicate with other agency officials to activate the provisions of part 375.

20 CFR 375.3 is being revised to eliminate some archaic word usage and make the policy easier to understand. No substantive change is intended by the revisions to this section.

20 CFR 375.4 currently provides that in a national emergency, all mail shall be directed to RRB offices at their normal locations. This instruction is unnecessary and restricts the Board's flexibility to react appropriately to future national emergencies. Since this section was inserted in 1975, the RRB's business processes have increasingly shifted to electronic processes, including email and online reporting systems. Additionally, in some emergency circumstances it may be necessary to redirect mail, telephone, or electronic communications to alternate sites. Therefore, we are removing and reserving this section. We are also removing 20 CFR 375.8(c) as a cross-reference to this section.

In 20 CFR 375.5, the Board delegates authority to provide continuity for Board operations in the event of a national emergency and provides the line of succession should Board officials with delegated authority be incapacitated or otherwise unavailable during a national emergency. We are revising this section to remove obsolete titles and update the list of succession in the event of a national emergency when a quorum of the full Board is unavailable to exercise its powers under section 7(b)(3) of the Railroad Retirement Act, to coordinate with the RRB's most recent revision of its Continuity of Operations Plan.

In 20 CFR 375.6, we are revising our delegation of personnel, fiscal, and procurement functions in a national emergency to coordinate with the RRB's most recent revision of its Continuity of Operations Plan. Specifically, we are removing a previous delegation of personnel functions to a position that is no longer in use and removing a provision regarding designation of the chain of succession for the Chief Financial Officer because the Continuity of Operations Plan contains a separate designation process. We are also updating the list of officials who may appoint emergency certifying officers and exercise emergency procurement powers and revising the delegation of procurement authorities to ensure consistency with the requirements in Part 18 of the Federal Acquisition Regulation governing emergency acquisitions.

Finally, 20 CFR 375.7 contains certain benefit flexibilities that are triggered during a national emergency as defined in this part. We are not making any substantive changes to these benefit flexibilities but are merely updating and replacing obsolete position titles and clarifying the internal delegation of duties required to implement these benefit flexibilities.

This final rule is being issued without prior public notice or opportunity for public comments because the rule is limited to agency organization, management, or personnel matters. As a result, a public comment period is not required.

Regulatory Analysis

Executive Order 12866, as Supplemented by Executive Order 13563

Because this rule is limited to agency organization, management, or personnel matters, it is not a rule or regulation subject to review by the Office of Management and Budget under Executive Order 12866, as supplemented by Executive Order 13563. Therefore, no regulatory impact analysis is required.

Regulatory Flexibility Act

Because this rule is limited to agency organization, management, or personnel matters and does not require notice and comment procedures, the Regulatory Flexibility Act does not apply, and no certification is required.

Paperwork Reduction Act

This direct final rule imposes no reporting or recordkeeping requirements subject to Office of Management and Budget clearance.

List of Subjects in 20 CFR Part 375

Civil defense, Railroad retirement, Railroad unemployment insurance.

For the reasons set out in the preamble, the Railroad Retirement Board amends 20 CFR part 375 as follows:

PART 375—PLAN OF OPERATION DURING A NATIONAL EMERGENCY

1. The authority citation for part 375 is revised to read as follows:

Authority: 45 U.S.C. 231f(b)(3), (5), 362(l), (m).

§ 375.1 [Amended]

2. Amend § 375.1 by, removing in paragraph (a) the word “which” and add in its place the word “that”.

3. Revise § 375.2 to read as follows:

§ 375.2 National emergency and effective date.

A period of national emergency shall be deemed to exist, and the provisions of this part shall become effective, only:

(a) After a declaration of national emergency issued under the authority of the President pursuant to the National Emergencies Act, the Robert T. Stafford Disaster Relief and Emergency Assistance Act, or any other presidential emergency authority; and

(b) By order of the Chair of the Board or his or her successor as set forth in § 375.5, or when it is no longer possible to communicate with such official at his or her designated station.

4. Revise § 375.3 to read as follows:

§ 375.3 Policy.

To the greatest extent possible, the Board shall pay benefits and carry out employment service functions through the period of a national emergency in strict conformance with the pertinent provisions of the Railroad Retirement Act, the Railroad Unemployment Insurance Act, and the regulations promulgated by the Board in this chapter to administer those acts. When the character of the national emergency prevents this, the stand-by regulations contained in this part shall apply. The Board shall return to normal operating practices as quickly as possible, including during the period of the national emergency.

§ 375.4 [Removed and Reserved]

5. Remove and reserve § 375.4.

6. Revise § 375.5 to read as follows:

§ 375.5 Organization and functions of the Board, delegations of authority, and lines of succession.

(a) During a national emergency, as defined in § 375.2, the respective functions and responsibilities of the Board shall be to the extent possible as set forth in the U.S. Government Manual, which is published annually by the Office of the Federal Register.

(b) The following delegation of authority is made to provide continuity in the event of a national emergency when a quorum of the full Board is unavailable to exercise its powers under section 7(b)(3) of the Railroad Retirement Act.

(1) The Chair of the Board shall act with full administrative authority for the Board.

(2) In the absence or incapacity of the Chair, the authority of the Chair to act shall pass to the available successor highest on the following list:

(i) Labor Member of the Board.

(ii) Management Member of the Board.

(iii) Chair of the Executive Committee.

(iv) Continuity of Operations Plan Executive.

(v) Director of Administration.

(vi) Director of Programs.

(vii) Director of Field Service.

(viii) Chief Financial Officer.

(ix) General Counsel.

(x) Chief Information Officer.

(xi) Chief Actuary.

(3) Except as may be determined otherwise by the Chair of the Board or his or her successor and as provided in §§ 375.6 and 375.7, the duties of each bureau or office head shall be discharged in his or her absence or incapacity during a national emergency by the available staff member next in line of succession. Each bureau or office head shall designate and prearrange the line of succession within his or her office. If no such designation has been made, such duties shall be assumed by the available subordinate who is highest in grade or, if there is more than one, in length of Board service.

(4) Emergency responsibility and authority under this section, once assumed, shall be relinquished on direction of the duly constituted higher authority acting under the provisions of paragraphs (b)(1) and (2) of this section.

7. Amend § 375.6 by:

a. Revising the section heading and paragraph (a);

b. Removing paragraph (b);

c. Redesignating paragraph (c) as paragraph (b); and

d. Revising the heading for newly redesignated paragraph (b) and paragraphs (b)(1) and (4).

The revisions read as follows:

§ 375.6 Fiscal and procurement functions.

(a) Fiscal. (1) In a national emergency, incumbents of the following positions are hereby authorized to appoint emergency certifying officers:

(i) Director of Administration.

(ii) Director of Programs.

(iii) Director of Field Service.

(iv) Chief Financial Officer.

(2) The emergency certifying officers shall be empowered to certify:

(i) Benefit payments under the Railroad Retirement Act;

(ii) Benefit payments under the Railroad Unemployment Insurance Act;

(iii) Payments made on behalf of qualified railroad retirement beneficiaries for hospital insurance benefits under section 226 and Parts A and C of Title XVIII of the Social Security Act; and

(iv) Administrative expenses of the Railroad Retirement Board.

(3) Emergency certifying officers shall be appointed under the authority delegated by this section when:

(i) Normal channels for certifying payments have been rendered inoperable; and

(ii) Clearance has been obtained from the ranking official in line of succession as set forth in § 375.5(b)(1) and (2) and under such instructions and conditions as he or she may prescribe.

(b) Procurement. (1) In a national emergency, as defined in § 375.2, the RRB shall maximize use of acquisition flexibilities for emergency acquisitions as allowed by the Federal Acquisition Regulation at 48 CFR part 18.

* * * * *

(4) As soon after the period of national emergency as conditions permit, the records required by paragraph (b)(3) of this section shall be transmitted to the Senior Procurement Executive or his or her surviving successor.

8. Amend § 375.7 by revising paragraphs (a)(1) and (2), (b)(1)(iii), and (b)(2) to read as follows:

§ 375.7 Operating regulations.

(a) * * *

(1) In a national emergency as defined in § 375.2, applications for and development and certification of claims for retirement, disability, and survivor benefits shall be to the extent possible as set forth in subchapter B of this chapter, except that:

(i) Standards of evidence may be relaxed, although legal requirements for entitlement to payments shall remain unchanged;

(ii) In determining relationships, employment, birth, death, etc., consideration shall be given to the information possessed by the applicants and beneficiaries or the Board office adjudicating a claim;

(iii) If prescribed forms are not available, any writing that contains substantially the necessary information shall be acceptable; and

(iv) In a national emergency when the headquarters office is inoperable, the development and certification of claims shall be assumed by the district offices.

(2) To provide the necessary authority for a decentralized program as outlined in paragraph (a)(1) of this section, those authorities related to claims processing and certification which have been delegated to the Director of Programs or Director of Field Service are hereby delegated to the network managers or their surviving successors.

(b) * * *

(1) * * *

(iii) In developing sickness benefit claims where medical evidence in the form of a doctor's statement is not available, an affidavit from the claimant or other person having knowledge of the claimant's sickness or injury shall be acceptable.

* * * * *

(2) To provide the necessary authority for a decentralized program as outlined in paragraph (b)(1) of this section, those authorities related to claims processing and certification which have been delegated to the Director of Programs or Director of Field Service are hereby delegated to the network managers or their surviving successors.

§ 375.8 [Amended]

9. Amend § 375.8 by removing paragraph (c).

Dated: June 18, 2025.
By Authority of the Board.
Stephanie Hillyard,
Secretary to the Board.

[FR Doc. 2025-11467 Filed 6-20-25; 8:45 am]

BILLING CODE 7905-01-P